DEPARTMENT OF TRANSPORTATION

Federal Aviation Administration

Executive Committee of the Aviation Rulemaking Advisory; Meeting Cancellation

AGENCY: Federal Aviation Administration (FAA), DOT.

ACTION: Notice of meeting cancellation.

SUMMARY: The FAA is issuing this notice to advise the public the July 23, 2008, meeting of the Executive Committee of the Aviation Rulemaking Advisory Committee (73 FR 36952, June 30, 2008) has been cancelled. The meeting will be rescheduled in a subsequent Federal Register notice.

FOR FURTHER INFORMATION CONTACT: Gerri Robinson, Federal Aviation Administration, 800 Independence Avenue, SW., Washington, DC 20591, telephone (202) 267-9678; fax (202) 267-5075; e-mail Gerri.Robinson@faa.gov.

Issued in Washington, DC, on July 17, 2008.
Pamela Hamilton-Powell,
Executive Director, Aviation Rulemaking Advisory Committee.

[FR Doc. E8-16715 Filed 7-21-08; 8:45 am]

BILLING CODE 4910-13-P